DEPARTMENT OF TRANSPORTATION

Federal Aviation Administration

14 CFR Part 39

[Docket No. 2000-NM-80-AD]

RIN 2120-AA64

Airworthiness Directives; CL-604 Variant of Bombardier Model Canadair CL-600-2B16 Series Airplanes Modified in Accordance With Supplemental Type Certificate SA8060NM-D, SA8072NM-D, or SA8086NM-D

AGENCY: Federal Aviation Administration, DOT.

ACTION: Notice of proposed rulemaking (NPRM).

SUMMARY: This document proposes the supersedure of an existing airworthiness directive (AD), applicable to Model CL-604 variant of Bombardier Model Canadair CL-600-2B16 series airplanes modified in accordance with certain Supplemental Type Certificates that currently requires that the fuel service panel maintenance light on the fuel service panel be disconnected. This action would require modification of the wiring of the fuel port flood light (which is the name given to the fuel service panel maintenance light in the service bulletin that describes the wiring modification). This proposal is prompted by a report indicating that an electrical spark was noted when the fuel cap chain contacted the fuel port flood light housing of the fuel service panel. The actions specified by the proposed AD are intended to prevent electrical sparks from a grounded object from coming into contact with the fuel port flood light housing of the fuel service panel, which could result in a fuel fire due to the proximity of the fuel service panel to the fuel port.

DATES: Comments must be received by November 6, 2000.

ADDRESSES: Submit comments in triplicate to the Federal Aviation Administration (FAA), Transport Airplane Directorate, ANM-114, Attention: Rules Docket No. 2000-NM-80-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment @faa.gov. Comments sent via fax or the Internet must contain “Docket No. 2000-NM-80-AD” in the subject line and need not be submitted in triplicate. Comments sent via the Internet as attached electronic files must be formatted in Microsoft Word 97 for Windows or ASCII text.

The service information referenced in the proposed rule may be examined at the FAA, Transport Airplane Directorate, 1601 Lind Avenue, SW., Renton, Washington; or at the FAA, Los Angeles Aircraft Certification Office, 3960 Paramount Boulevard, Lakewood, California.

FOR FURTHER INFORMATION CONTACT: Abby Malmir, Aerospace Engineer, Systems and Equipment Branch, ANM-130L, FAA, Los Angeles Aircraft Certification Office, 3960 Paramount Boulevard, Lakewood, California 90712-4137; telephone (562) 627-5351; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket No. 2000-NM-80-AD.” The postcard will be date stamped and returned to the commenter.

Availability of NPRMs

Any person may obtain a copy of this NPRM by submitting a request to the FAA, Transport Airplane Directorate, ANM-114, Attention: Rules Docket No. 2000-NM-80-AD, 1601 Lind Avenue, SW., Renton, Washington 98055-4056.

Discussion

On January 13, 2000, the FAA issued AD 2000-01-51, amendment 39-11519, (65 FR 3379, January 21, 2000) applicable to CL-604 variant of Bombardier Model Canadair CL-600-2B16 series airplanes modified in accordance with Supplemental Type Certificate SA8060NM-D, SA8072NM-D, or SA8086NM-D. That AD required that the fuel service panel maintenance light on the fuel service panel be disconnected. That action was prompted by a report indicating that an electrical spark was noted when the fuel cap chain contacted the maintenance light housing of the fuel service panel. The requirements of that AD were intended to prevent electrical sparks from a grounded object from coming into contact with the maintenance light housing of the fuel service panel, which could result in a fuel fire due to the close proximity of the fuel service panel to the fuel port.

Actions Since Issuance of Previous Rule

In the preamble of AD 2000-01-51, the FAA indicated that the action required by that AD was considered “interim action” and that further rulemaking was being considered. Since the issuance of that AD, the manufacturer has advised that it has developed a modification that will positively address the unsafe condition. The FAA has determined that further rulemaking is indeed necessary; this proposed AD follows from that determination.

Explanation of Relevant Service Information

Bombardier has issued Service Bulletins TUC-33-30-01-1, dated February 1, 2000, and TUC-33-30-01-1, Revision A, dated March 10, 2000, which describe procedures for modification of the wiring of the fuel port flood lights. The modification involves re-routing the wires in the flood light assembly, verifying the proper termination, adding an additional ground wire to the flood light assembly, and verifying the bonding of the fuel port flood light to the airplane structure. Accomplishment of the actions specified in the service bulletins is intended to adequately address the identified unsafe condition.

FAA's Conclusions

This airplane model is manufactured in Canada and is type certificated for operation in the United States under the provisions of § 21.29 of the Federal Aviation Regulations (14 CFR 21.29) and the applicable bilateral airworthiness agreement. The FAA has reviewed all available information and determined that AD action is necessary for products of this type design that are certificated for operation in the United States.

Explanation of Requirements of Proposed Rule

Since an unsafe condition has been identified that is likely to exist or develop on other airplanes of the same type design registered in the United States, the proposed AD would supersede AD 2000-01-51 to require modification of the wiring of the fuel port flood lights. The actions would be required to be accomplished in accordance with the service bulletins described previously. The FAA has determined that long term operational safety will be better assured by this modification than by leaving the fuel port flood lights disconnected. This determination was based in part on the possibility of human error associated with possible future reconnection of the lights.

Cost Impact

There are approximately 22 airplanes of U.S. registry that would be affected by this proposed AD.

The modification that is proposed in this AD action would take approximately 2 work hours per airplane to accomplish, at an average labor rate of $60 per work hour. The cost of the parts required for each airplane are minimal. Based on these figures, the cost impact of the proposed requirements of this AD on U.S. operators is estimated to be $2,640, or $120 per airplane.

The cost impact figure discussed above is based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11519 (65 FR 3379, January 21, 2000), and by adding a new airworthiness directive (AD), to read as follows:

Bombardier, Inc. (Formerly Canadair): Docket 2000-NM-80-AD. Supersedes AD 2000-01-51, Amendment 39-11519.

Applicability: CL-604 Variant of Bombardier Model Canadair CL-600-2B16 Series Airplanes Modified in Accordance with Supplemental Type Certificate SA8060NM-D, SA8072NM-D, or SA8086NM-D

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b)(1) of this AD. The request should include an assessment of the effect of the modification, alteration, or repair on the unsafe condition addressed by this AD; and, if the unsafe condition has not been eliminated, the request should include specific proposed actions to address it.

Compliance: Required as indicated, unless accomplished previously.

To prevent electrical sparks from a grounded object from coming into contact with the fuel port flood light housing of the fuel service panel, which could result in a fuel fire due to the close proximity of the fuel service panel to the fuel port, accomplish the following:

Modification

(a) Within 90 days after the effective date of this AD, modify the wiring of the fuel port flood light in accordance with the Accomplishment Instructions of Bombardier Service Bulletin TUC-33-30-01-1, dated February 1, 2000, or Revision A, dated March 10, 2000.

Alternative Methods of Compliance

(b)(1) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

(2) Alternative methods of compliance, approved previously in accordance with AD 2000-01-51, amendment 39-11519, are approved as alternative methods of compliance with this AD.

Note 2: Information concerning the existence of approved alternative methods of compliance with this AD, if any, may be obtained from the Los Angeles ACO.

Special Flight Permits

(c) Special flight permits may be issued in accordance with § 21.197 and 21.199 of the Federal Aviation Regulations (14 CFR 21.197 and 21.199) to operate the airplane to a location where the requirements of this AD can be accomplished.

Issued in Renton, Washington, on September 29, 2000.
Donald L. Riggin,
Acting Manager, Transport Airplane Directorate, Aircraft Certification Service.

[FR Doc. 00-25535 Filed 10-4-00; 8:45 am]

BILLING CODE 4910-13-P